DEPARTMENT OF DEFENSE

Office of the Secretary

Notice of Availability of the Draft Programmatic Environmental Impact Statement for DTRA Activities on White Sands Missile Range, New Mexico

AGENCY: Office of the Under Secretary of Defense for Acquisition, Technology, and Logistics, Defense Threat Reduction Agency, DoD.

ACTION: Notice of availability.

SUMMARY: Pursuant to section 102(2)(c) of the National Environmental Act (NEPA), 42 U.S.C. 4321-4370, as implemented by the Council of Environmental Quality Regulations (40 CFR parts 1500-1508), the Defense Threat Reduction Agency (DTRA) announces the availability of the Draft Programmatic Environmental Impact Statement (PEIS) for DTRA activities on White Sands Missile Range (WSMR), New Mexico. As a major cooperating agency, WSMR has participated in the preparation of the PEIS. Future development of DTRA's testing facilities and program, and its scope require a PEIS to adequately address potential environmental impacts.

ADDRESSES: Written comments may be forwarded to the Defense Threat Reduction Agency, ATTN: WSMR PEIS Comments, 1680 Texas St., SE., Kirtland AFB, NM 87117-5669; faxed to (505) 853-1793; or emailed to WSMR_PEIS_Comments@abq.dtra.mil.

FOR FURTHER INFORMATION CONTACT: DTRA Public Affairs at (703) 767-5870 or (800) 701-5096.

SUPPLEMENTARY INFORMATION: White Sands Missile Range covers approximately 8,288 km² (3,200 mi²) of south-central New Mexico. Proposed DTRA activities at WSMR have the potential to significantly impact certain natural, social, cultural, and economic resources in the region. The study area for environmental analyses includes the Hard Target Defeat Test bed (HTDT), Permanent High Explosive Test Site (PHETS), Seismic hardrock In Situ Test site (SHIST), Alternate SHIST, and Large Blast/Thermal Simulator (LBTS). The objective has been to provide a thorough, comprehensive and PEIS that will serve as a planning and decision-making tool, a public information source, and a reference for mitigation tracking concerning DTRA future activities.

Alternatives consist of modifications of specific activities; variations in type and toxicity of simulants; and the No Action alternative. These alternatives were developed during preparation of the Draft PEIS as a result of environmental analyses of the activities and public input.

Significant Issues: Certain biologically diverse areas on White Sands Missile Range utilized by the Defense Threat Reduction Agency serve as habitat or potential habitat for protected floral and faunal (plant and animal) species. To date, several locations in the areas studied have been identified as important cultural resources. The most significant are Ground Zero and McDonald Ranch House, part of Trinity Site National Historic Landmark located within the Permanent High Explosive Test Site boundaries.

Significant issues that are addressed in the Draft PEIS include:

1. The continued operation and maintenance of various test structures used as targets for weapon system evaluations.

2. Construction of new test structures, enlargement of existing test beds, and possible development of new test beds.

3. Testing, operations and maintenance activities at tunnel targets in the Capitol Canyon area (HTDT).

4. The use of chemical and biological simulants in collateral damage tests.

5. Planned improvements to the DTRA Administrative Park within the PHETS boundaries.

Public hearings will be held on Tuesday, February 28, 2006, at the Civic Center in Alamogordo, NM (800 East First Street, Alamagordo, NM); on Wednesday, March 1, 2006, at the Ramada Palms in Las Cruces, NM (201 E University Ave., Las Cruces, NM); and on Thursday, March 2, 2006, at the New Mexico Institute of Mining and Technology, Macey Center, in Socorro, NM (801 Leroy Place, Socorro, NM) to facilitate public input to the PEIS.

All hearings will begin at 5 p.m. with a 2-hour open house session for the public to ask questions of subject matter experts. These sessions will be followed by the public hearings, beginning at 7 p.m. in order to receive public comments.

Please note any changes to the times, dates, and locations for the hearings will be published in local newspapers and on the PEIS Web site at www.dtra.mil/Toolbox/Directorates/TD/programs/dpeis/index.cfm.

For those that cannot attend the public hearings, written comments via mail or e-mail are encouraged. Comments should clearly identify and describe the specific issue(s) or topics that the PEIS should address.

To be considered in the Final PEIS, comments and suggestions must be postmarked no later than 60 days following this Federal Register announcement.

Dated: January 23, 2006.
L.M. Bynum,
Alternate OSD Federal Register Liaison Officer, Department of Defense.

[FR Doc. 06-815 Filed 1-26-06; 8:45 am]

BILLING CODE 5001-06-M